DEPARTMENT OF AGRICULTURE

Food and Nutrition Service

Child and Adult Care Food Program: National Average Payment Rates, Day Care Home Food Service Payment Rates, and Administrative Reimbursement Rates for Sponsoring Organizations of Day Care Homes for the Period July 1, 2011 Through June 30, 2012

AGENCY: Food and Nutrition Service, USDA.

ACTION: Notice.

SUMMARY: This notice announces the annual adjustments to the national average payment rates for meals and snacks served in child care centers, outside-school-hours care centers, at-risk afterschool care centers, and adult day care centers; the food service payment rates for meals and snacks served in day care homes; and the administrative reimbursement rates for sponsoring organizations of day care homes, to reflect changes in the Consumer Price Index. Further adjustments are made to these rates to reflect the higher costs of providing meals in the States of Alaska and Hawaii. The adjustments contained in this notice are made on an annual basis each July, as required by the laws and regulations governing the Child and Adult Care Food Program.

DATES: These rates are effective from July 1, 2011 through June 30, 2012.

FOR FURTHER INFORMATION CONTACT: Ms. Tina Namian, Section Head, Policy and Program Development Branch, Child Nutrition Division, Food and Nutrition Service, U.S. Department of Agriculture, 3101 Park Center Drive, Room 640, Alexandria, Virginia 22302-1594, 703-305-2634.

SUPPLEMENTARY INFORMATION:

Definitions

The terms used in this notice have the meanings ascribed to them in the Child and Adult Care Food Program regulations, 7 CFR part 226.

Background

Pursuant to sections 4, 11, and 17 of the Richard B. Russell National School Lunch Act (42 U.S.C. 1753, 1759a, and 1766), section 4 of the Child Nutrition Act of 1966 (42 U.S.C. 1773) and sections 226.4, 226.12 and 226.13 of the regulations, notice is hereby given of the new payment rates for institutions participating in the Child and Adult Care Food Program (CACFP). These rates are in effect during the period, July 1, 2011 through June 30, 2012.

As provided for under the law, all rates in the CACFP must be revised annually, on July 1, to reflect changes in the Consumer Price Index (CPI), published by the Bureau of Labor Statistics of the United States Department of Labor, for the most recent 12-month period. In accordance with this mandate, the United States Department of Agriculture last published the adjusted national average payment rates for centers, the food service payment rates for day care homes, and the administrative reimbursement rates for sponsors of day care homes, for the period from July 1, 2010 through June 30, 2011, on July 19, 2010, at 75 FR 41793.

Child and Adult Care Food Program (CACFP)
[Per meal rates in whole or fractions of U.S. dollars, effective from July 1, 2011-June 30, 2012]
Centers | Breakfast | Lunch and Supper ¹ | Snack
CONTIGUOUS STATES:
PAID | 0.27 | 0.26 | 0.07
REDUCED PRICE | 1.21 | 2.37 | 0.38
FREE | 1.51 | 2.77 | 0.76
ALASKA:
PAID | 0.40 | 0.43 | 0.11
REDUCED PRICE | 2.11 | 4.10 | 0.61
FREE | 2.41 | 4.50 | 1.23
HAWAII:
PAID | 0.30 | 0.31 | 0.08
REDUCED PRICE | 1.46 | 2.85 | 0.44
FREE | 1.76 | 3.25 | 0.89

Day Care Homes | Breakfast: Tier I | Breakfast: Tier II | Lunch and Supper: Tier I | Lunch and Supper: Tier II | Snack: Tier I | Snack: Tier II
CONTIGUOUS STATES | 1.24 | 0.45 | 2.32 | 1.40 | 0.69 | 0.19
ALASKA | 1.97 | 0.70 | 3.76 | 2.27 | 1.12 | 0.31
HAWAII | 1.44 | 0.52 | 2.71 | 1.64 | 0.81 | 0.22

Administrative Reimbursement Rates for Sponsoring Organizations of day Care Homes per Home
[Per month rates in U.S. dollars]
Initial 50 | Next 150 | Next 800 | Each Addl
CONTIGUOUS STATES | 106 | 81 | 63 | 55
ALASKA | 171 | 130 | 102 | 90
HAWAII | 124 | 94 | 74 | 65
¹ These rates do not include the value of commodities (or cash-in-lieu of commodities) which institutions receive as additional assistance for each lunch or supper served to participants under the Program. A notice announcing the value of commodities and cash-in-lieu of commodities is published separately in the Federal Register.

The changes in the national average payment rates for centers reflect a 2.18 percent increase during the 12-month period, May 2010 to May 2011, (from 225.573 in May 2010, as previously published in the Federal Register, to 230.501 in May 2011) in the food away from home series of the CPI for All Urban Consumers.

The changes in the food service payment rates for day care homes reflect a 4.43 percent increase during the 12-month period, May 2010 to May 2011, (from 215.793 in May 2010, as previously published in the Federal Register, to 225.356 in May 2011) in the food at home series of the CPI for All Urban Consumers.

The changes in the administrative reimbursement rates for sponsoring organizations of day care homes reflect a 3.57 percent increase during the 12-month period, May 2010 to May 2011, (from 218.178 in May 2010, as previously published in the Federal Register, to 225.964 in May 2011) in the series for all items of the CPI for All Urban Consumers.

The total amount of payments available to each State agency for distribution to institutions participating in the Program is based on the rates contained in this notice.

This action is not a rule as defined by the Regulatory Flexibility Act (5 U.S.C. 601-612) and thus is exempt from the provisions of that Act. This notice has been determined to be exempt under Executive Order 12866.

This Program is listed in the Catalog of Federal Domestic Assistance under No. 10.558 and is subject to the provisions of Executive Order 12372, which requires intergovernmental consultation with State and local officials. (See 7 CFR Part 3015, subpart V, and final rule related notice published at 48 FR 29114, June 24, 1983.)

This notice has been determined to be not significant and was reviewed by the Office of Management and Budget in conformance with Executive Order 12866.

This notice imposes no new reporting or recordkeeping provisions that are subject to Office of Management and Budget review in accordance with the Paperwork Reduction Act of 1995 (44 U.S.C. 3501-3518).

Authority: Sections 4(b)(2), 11a, 17(c) and 17(f)(3)(B) of the Richard B. Russell National School Lunch Act, as amended (42 U.S.C. 1753(b)(2), 1759a, 1766(f)(3)(B)) and section 4(b)(1)(B) of the Child Nutrition Act of 1966, as amended (42 U.S.C. 1773(b)(1)(B)).

Dated: July 14, 2011.
Audrey Rowe,
Administrator.

[FR Doc. 2011-18257 Filed 7-19-11; 8:45 am]

BILLING CODE 3410-30-P